DEPARTMENT OF ENERGY

Federal Energy Regulatory Commission

[Docket No. RP00-307-001]

U-T Offshore System, L.L.C; Notice of Compliance Filing

July 18, 2000.

Take notice that on July 12, 2000, U-T Offshore System, L.L.C (UTOS), tendered for filing as part of its FERC Gas Tariff, Fourth Revised volume No. 1, Substitute First Revised Sheet No. 97, with an effective date of November 5, 1999.

UTOS states that it is filing this tariff sheet to comply with the Commission's June 27, 2000 Letter Order in the referenced proceeding.

Any person desiring to protest this filing should file a protest with the Federal Energy Regulatory Commission, 888 First Street, NE., Washington, DC 20426, in accordance with section 3385.211 of the Commission's rules and regulations. All such protests must be filed as provided in Section 154.210 of the Commission's regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-18507 Filed 7-20-00; 8:45 am]

BILLING CODE 6717-01-M